DEPARTMENT OF ENERGY

Federal Energy Regulatory Commission

Combined Notice of Filings

Take notice that the Commission has received the following Natural Gas Pipeline Rate and Refund Report filings:

Docket Numbers: RP21-653-000.

Applicants: Ovintiv Marketing Inc., Kiwetinohk Marketing US Corp.

Description: Joint Petition of Ovintiv Marketing Inc. and Kiwetinohk Marketing US Corp. for Extension of Temporary and Limited Waivers.

Filed Date: 7/12/21.

Accession Number: 20210712-5024.

Comments Due: 5 p.m. ET 7/26/21.

Docket Numbers: RP21-963-000.

Applicants: Effingham County Power, LLC, Oglethorpe Power Corporation (An Electric Membership Corporation).

Description: Joint Petition for Temporary Waiver of Capacity Release Regulations, et al. of Effingham County Power, LLC, et al.

Filed Date: 7/12/21.

Accession Number: 20210712-5136.

Comments Due: 5 p.m. ET 7/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2021.
Debbie-Anne A. Reese,
Deputy Secretary.

[FR Doc. 2021-15314 Filed 7-19-21; 8:45 am]

BILLING CODE 6717-01-P